DEPARTMENT OF THE INTERIOR

Bureau of Land Management

[MT-020-1020-PK]

Notice of Public Meeting, Eastern Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), Eastern Montana Resource Advisory Council will meet as indicated below.

DATES: A meeting will be held July 20, 2005, at the Wyoming Game and Fish Department, 700 Valley View Drive, Sheridan, Wyoming, beginning at 8 a.m. The public comment period will begin at 11:30 a.m.

SUPPLEMENTARY INFORMATION: The 15-member Council advises the Secretary of the Interior, through the Bureau of Land Management, on a variety of planning and management issues associated with public land management in eastern Montana. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below. The Council will hear updates on the Miles City Resource Management Plan, coalbed natural gas, and other issues.

FOR FURTHER INFORMATION CONTACT: Mary Apple, Resource Advisory Council Coordinator, Montana State Office, 5001 Southgate Drive, Billings, Montana, 59101, telephone 406-896-5258 or Sandra S. Brooks, Field Manager, Billings Field Office, telephone 406-896-5013.

Dated: June 20, 2005.
Sandra S. Brooks,
Field Manager.

[FR Doc. 05-12634 Filed 6-23-05; 8:45 am]

BILLING CODE 4310-$$-P